DEPARTMENT OF THE TREASURY

Internal Revenue Service

26 CFR Parts 1, 301 and 602

[TD 9300]

RIN 1545-BC15

Guidance Necessary To Facilitate Business Electronic Filing; Correction

AGENCY: Internal Revenue Service (IRS), Treasury.

ACTION: Correction to final regulations.

SUMMARY: This document contains correction to final regulations (TD 9300) that were published in the Federal Register on Friday, December 8, 2006 (71 FR 71040) designed to eliminate regulatory impediments to the electronic filing of certain income tax returns and other forms.

DATES: The correction is effective December 8, 2006.

FOR FURTHER INFORMATION CONTACT: Nathan Rosen, (202) 622-4910 (not a toll-free number).

SUPPLEMENTARY INFORMATION:

Background

The correction notice that is the subject of this document is under sections 170, 556, 565, 936, 1017, 1368, 1377, 1502, 1503, 6038B and 7701 of the Internal Revenue Code.

Need for Correction

As published, final regulations (TD 9300) contain errors that may prove to be misleading and are in need of clarification.

Correction of Publication

Accordingly, the publication of the final regulations (TD 9300), which was the subject of FR Doc. E6-20734, is corrected as follows:

On page 71041, column 1, in the preamble, under the paragraph heading “January 2006 Final Regulations Facilitating Electronic Filing”, last paragraph of the column, second line, the language “Treasury released TD 9243, (TD 9243,” is corrected to read “Treasury released final regulations (TD 9243,”.

On page 71041, column 2, in the preamble, under the paragraph heading “May 2006 Regulations Facilitating Electronic Filing”, first paragraph, second line, the language “Treasury Department released TD 9264” is corrected to read “Treasury Department released final and temporary regulations (TD 9264, 2006-26 I.R.B. 1150 [71 FR 30591])”.

LaNita Van Dyke,
Chief, Publications and Regulations Branch, Legal Processing Division, Associate Chief Counsel, (Procedure and Administration).

[FR Doc. E7-858 Filed 1-22-07; 8:45 am]

BILLING CODE 4830-01-P